FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 010977-054.

Title: Hispaniola Discussion Agreement.

Parties: Crowley Liner Services; Seaboard Marine; Tropical Shipping and Construction Co. Ltd.; and Frontier Liner Services.

Synopsis: The amendment would provide for joint service contracting authority, delete obsolete language, clarify voting requirements and restate the agreement.

Agreement No.: 011795-002.

Title: Puerto Rican Cross Space Charter and Sailing Agreement.

Parties: Compania Chilena de Navegacion Interoceanica S.A. and Compania Sud Americana de Vapores S.A.

Synopsis: The amendment revises the geographic scope to include the United States Pacific Coast. The parties request expedited review.

Agreement No.: 011737-012.

Title: The MCA Agreement.

Parties: Atlantic Container Line AB; Alianca Navegacao e Logistica Ltda.; Antillean Marine Shipping Corporation; A.P. Moller-Maersk A/S; Bernuth Lines, Ltd.; China Shipping Container Lines Co., Ltd.; CMA CGM S.A.; Companhia Libra de Navegacao; Compania Sud Americana de Vapores S.A.; CP Ships (UK) Limited d/b/a ANZDL and d/b/a Contship Containerlines; Crowley Liner Services, Inc.; Dole Ocean Cargo Express, Inc.; Great White Fleet (U.S.) Ltd.; Hamburg-Süd; Hapag-Lloyd Container Linie; Italia di Navigazione S.p.A.; King Ocean Central America S.A.; King Ocean Service de Colombia S.A.; King Ocean Service de Venezuela S.A.; Lykes Lines Limited, LLC; Montemar Maritima S.A.; Norasia Container Line Limited; P&O Nedlloyd Limited; Safmarine Container Lines N.V.; TMM Lines Limited, LLC; Tropical Shipping & Construction Co., Ltd.; Wallenius Wilhelmsen Lines AS.

Synopsis: The proposed amendment would add HUAL AS to and delete Antillean Marine, Bernuth Lines, P&O Nedlloyd, and the three King Ocean companies from the membership list; add authority for the parties to discuss credit, collection billing procedures, charges, and systems; and correct the addresses of CP Ships, Lykes, Italia, and TMM.

Dated: June 4, 2004.
By Order of the Federal Maritime Commission.
Bryant L. VanBrakle,
Secretary.

[FR Doc. 04-13059 Filed 6-8-04; 8:45 am]

BILLING CODE 6730-01-U